DEPARTMENT OF THE INTERIOR

Bureau of Land Management

[LLCA930000 L19200000.ET0000 LRORB1621000; CACA 007551-01]

Public Land Order No. 7869; Partial Revocation of Withdrawal Established by Secretarial Orders, Klamath River Project, California

AGENCY: Bureau of Land Management, Interior.

ACTION: Public Land Order (PLO).

SUMMARY: This PLO partially revokes 18.67 acres of public land from a withdrawal created by two Secretarial Orders dated July 19, 1904, and January 28, 1905, which withdrew land for the Bureau of Reclamation's (BOR) Klamath River Project. The land will remain closed to surface entry and mining under the public land laws including the United States mining laws due to an overlapping withdrawal for the Tule Lake Segregation Center, World War II Valor of the Pacific National Monument created by Presidential Proclamation No. 8327, dated December 5, 2008.

DATES: This PLO takes effect on October 10, 2018.

FOR FURTHER INFORMATION CONTACT: Deanne Kidd, California State Office (CA-930), BLM, 916-978-4337. Persons who use a telecommunications device for the deaf (TDD) may call the Federal Relay Service (FRS) at 1-800-877-8339 to contact the above individual. The FRS is available 24 hours a day, 7 days a week. You will receive a reply during normal business hours.

SUPPLEMENTARY INFORMATION: The BOR has determined that the lands are no longer needed for BOR purposes. The lands are located within the boundary of the Tule Lake Segregation Center, World War II Valor in the Pacific National Monument designated by Presidential Proclamation No. 8327, dated December 5, 2008. The National Park Service manages the land, which is withdrawn from all forms of entry, location, selection, sale, leasing, or other disposition under the public land laws, including, but not limited to, withdrawal from location, entry, and patent under the mining laws, and from disposition under all laws relating to mineral and geothermal leasing.

Order

By the virtue of the authority vested in the Secretary of the Interior by Section 204 of the Federal Land policy and Management Act of 1976, 43 U.S.C. 1714, it is ordered as follows;

1. The withdrawal created by Secretarial Orders dated July 19, 1904, and January 28, 1905, which withdrew public lands for use by the Bureau of Reclamation for the Klamath River Project, is hereby partially revoked insofar as they affect the following described land:

Mount Diablo Meridian

T. 47 N, R. 5 E,

Sec 26, lots 52 & 53, except those portions of lots 52 and 53, shown on the BLM Supplemental Plat accepted January 14, 1959, lying northeasterly of the following described line:

Commencing at the westernmost corner of said lot 52, from which the West ¼ section corner of section 26 bears South 12°37′32″ W, at a distance of 647.91 feet; thence northeasterly along the northwesterly boundary of said lot 52 to a point at a distance of 149.30 feet to the True Point of Beginning; thence southeasterly on a line parallel to the southwesterly lines of lots 52 and 53 at an offset distance of 149.28 feet northeasterly of said lines, to the intersection point with the southeasterly line of lot 53, said point being the point of terminus.

The area described contains 18.67 acres in Modoc County.

2. The land remains withdrawn under Presidential Proclamation No. 8327 dated December 5, 2008, which established the Tule Lake Segregation Center, which is part of the World War II Valor of the Pacific National Monument.

Joseph R. Balash,
Assistant Secretary—Land and Minerals Management.

[FR Doc. 2018-22032 Filed 10-9-18; 8:45 am]

BILLING CODE 4310-40-P